NATIONAL AERONAUTICS AND SPACE ADMINISTRATION

[Notice: 14-060]

Government-Owned Inventions, Available for Licensing

AGENCY: National Aeronautics and Space Administration.

ACTION: Notice of availability of inventions for licensing.

SUMMARY: Patent applications on the inventions listed below assigned to the National Aeronautics and Space Administration, have been filed in the United States Patent and Trademark Office, and are available for licensing.

DATES: July 3, 2014.

FOR FURTHER INFORMATION CONTACT: Robert M. Padilla, Patent Counsel, Ames Research Center, Code 202A-4, Moffett Field, CA 94035-1000; telephone (650) 604-5104; fax (650) 604-2767.

NASA Case No.: ARC-16797-1: Woven thermal Protection System;

NASA Case No.: ARC-16752-1: Variable Geometry Aircraft Wing Supported by Struts and/or Trusses;

NASA Case No.: ARC-16001-1-: Real Time Radiation Monitoring Using Nanotechnology;

NASA Case No.: ARC-16969-1: Electrical Response Using Nanotubes on a Fibrous Substrate;

NASA Case No.: ARC-16478-1: System and Method for Providing a Real Time Audible Message to a Pilot;

NASA Case No.: ARC-16132-1: Modification of Surface Density of a Porous Medium;

NASA Case No.: ARC-16405-1: Nanowire-Based Piezoelectric Power Generation;

NASA Case No.: ARC-16924-1-: Thermal Protection Supplement for Reducing Interface Thermal Mismatch;

NASA Case No.: ARC-16461-1: Solar Powered CO2 Conversion;

NASA Case No.: ARC-16916-1: Control Systems with Normalized and Covariance Adaptation by Optimal Control Modification;

NASA Case No.: ARC-16697-1: System for Performing Single Query Searches of Heterogeneous and Dispersed Databases;

NASA Case No.: ARC-16466-1: Recyclable Thermal Protection Material.

Sumara M. Thompson-King,
Deputy General Counsel.

[FR Doc. 2014-15673 Filed 7-2-14; 8:45 am]

BILLING CODE 7510-13-P